DEPARTMENT OF COMMERCE

International Trade Administration

[A-421-808; A-412-820; A-428-828]

Notice of Preliminary Determination of Sales at Less Than Fair Value: Low Enriched Uranium From the United Kingdom; Preliminary Determinations of Sales at Not Less Than Fair Value: Low Enriched Uranium From Germany and the Netherlands; and Postponement of Final Determinations

AGENCY: Import Administration, International Trade Administration, Department of Commerce.

EFFECTIVE DATE: August 13, 2001.

FOR FURTHER INFORMATION CONTACT: Frank Thomson or James Terpstra, Office of AD/CVD Enforcement VI, Import Administration, International Trade Administration, U.S. Department of Commerce, 14th Street and Constitution Avenue, NW, Washington, D.C. 20230; telephone: (202) 482-4793 or (202) 482-3965, respectively.

The Applicable Statute and Regulations: Unless otherwise indicated, all citations to the statute are references to the provisions effective January 1, 1995, the effective date of the amendments made to the Tariff Act of 1930 (the Act) by the Uruguay Round Agreements Act (URAA). In addition, unless otherwise indicated, all citations to Department of Commerce (Department) regulations refer to the regulations codified at 19 CFR part 351 (April 2000).

Preliminary Determinations: We preliminarily determine that low-enriched uranium (LEU) from Germany and the Netherlands is not being sold, or is not likely to be sold, in the United States at less than fair value (LTFV), as provided in section 733 of the Act.

We preliminarily determine that LEU from the United Kingdom is being sold, or is likely to be sold, in the United States at less than fair value (LTFV), as provided in section 733 of the Act. The estimated margins of sales at LTFV are shown in the Suspension of Liquidation section of this notice.

Case History

These investigations were initiated on December 27, 2000.¹ See Notice of Initiation of Antidumping Duty Investigations: Low Enriched Uranium from France, Germany, the Netherlands, and the United Kingdom, 66 FR 1080 (January 5, 2001). (Initiation Notice).

¹ The petitioners in this investigation are USEC Inc. and its wholly-owned subsidiary, the United States Enrichment Corp. (collectively USEC), and the Paper, Allied-Industrial, Chemical and Energy Workers International Union, AFL-CIO, CLC, Local 5-550 and Local 5-689 (collectively PACE) (the petitioners).

In the initiation notice, we invited interested parties to comment on the scope of these investigations by January 17, 2001. On January 17, 2001, we received a letter with comments from Urenco Ltd., Urenco (Capenhurst) Ltd., Urenco Nederland BV, and Urenco Deutschland GmbH (collectively, “Urenco” or “the respondent”), as well as from the petitioners. In addition, on April 5, 2001, we received comments from the Ad Hoc Utilities Group (Ad Hoc Group), an industrial user/consumer of subject merchandise. Our analysis of these comments is in a memorandum from the team to Bernard Carreau, dated May 7, 2001, which is on file in the Central Records Unit, Room B-099, of the Main Commerce Building.

On January 22, 2001, the United States International Trade Commission (ITC) preliminarily determined that there is a reasonable indication that an industry in the United States is threatened with material injury by reason of imports of the products subject to each of these antidumping investigations. See Low Enriched Uranium From France, Germany, The Netherlands, and the United Kingdom, 66 FR 8424 (January 31, 2001).

On January 29, 2001, the Department invited interested parties to submit comments on model matching criteria and proposed modifications to the standard questionnaire. We received comments from Urenco and the petitioners on January 31, 2001. On February 5, 2001, after considering those comments, the Department requested additional information from Urenco for purposes of formulating antidumping questionnaires appropriate to the unique nature of the uranium industry. We received Urenco's response to that request on February 13, 2001. After considering this information, on February 26, 2001, the Department issued its antidumping questionnaires to Urenco.²

² Section A of the antidumping questionnaire requests general information concerning a company's corporate structure and business practices, the merchandise under investigation that it sells, and the manner in which it sells that merchandise in all of its markets. Section B requests a complete listing of all home market sales, or, if the home market is not viable, then a listing of sales in the most appropriate third-country market. Section C requests a complete listing of U.S. sales. Section D requests information on the cost of production of the foreign like product and the constructed value of the merchandise under investigation.

We issued supplemental questionnaires where appropriate. Responses to those supplemental questionnaires were timely filed on May 30, 2001 and June 4, 2001, and we have incorporated the information provided in those responses into this preliminary determination. On May 5, 2001, Urenco requested an extension of time to respond to certain questions in the supplemental questionnaires. On May 29, 2001, the Department granted Urenco a five-day extension to respond to certain questions in the Department's supplemental questionnaires.

On April 18, 2001, the Department concluded, consistent with section 733(c)(1)(B) of the Act, that these cases concerning LEU from Germany, the Netherlands, and the United Kingdom are extraordinarily complicated, and that additional time was necessary to issue the preliminary determinations. Consequently, we extended the deadline for the preliminary determinations to July 5, 2001. See Notice of Postponement of Preliminary Antidumping Duty Determinations: Low Enriched Uranium from France, Germany, the Netherlands, and the United Kingdom, 66 FR 20969 (April 26, 2001).

In addition to the principal events listed above, petitioners and respondent have filed numerous submissions suggesting alternative calculation methodologies, the appropriate treatment of separative work unit (SWU) contracts, and the possible calculation of a consolidated rate for the Urenco group. These comments have been addressed insofar as we have made a specific determination on how to handle each aspect of the calculations. One suggestion not elsewhere addressed is petitioners' request that we rely on adverse facts available for these preliminary determinations based on Urenco's failure to respond to the questionnaire to the best of its ability. Petitioners cite numerous instances of Urenco's failure to initially provide information, most notably a lack of full disclosure about affiliated party transactions. Although we agree with petitioners that there were deficiencies in the information provided by Urenco, which are detailed in our supplemental questionnaires, we preliminarily determine that Urenco's questionnaire responses are not so deficient as to be unuseable or that reliance on facts available is appropriate for purposes of these preliminary determinations.

Postponement of Final Determination

Section 735(a)(2)(B) of the Act provides that a final determination may be postponed until no later than 135 days after the date of the publication of the preliminary determination if, in the event of a negative preliminary determination, as in the case for Germany and the case for the Netherlands, a request for such postponement is made by the petitioner. On July 5, 2001, the petitioners made such a request. Since these preliminary determinations are negative, with respect with Germany and the Netherlands, and there is no compelling reason to deny the petitioners' request, we have extended the deadline for issuance of these final determinations until the 135th day after the date of publication of these preliminary determinations in the Federal Register.

In the event of an affirmative preliminary determination, as is the case for the United Kingdom, section 735(a)(2)(A) of the Act states that the Department may postpone making the final determination until no later than the 135th day after publication of the preliminary determination if a request in writing for such postponement is made by exporters who account for a significant proportion of exports of the subject merchandise. On June 29, 2001, Urenco Ltd., the sole producer/exporter of subject merchandise from the United Kingdom, made such a request. In its request, the respondent consented to the extension of provisional measures to no longer than six months. Since this preliminary determination is affirmative, with respect with the United Kingdom, and there is no compelling reason to deny respondent's request, we have extended the deadline for issuance of the final determination until the 135th day after the date of publication of this preliminary determination in the Federal Register.

Period of Investigation

The period of investigation (POI) is October 1, 1999, through September 30, 2000. This period corresponds to the four most recent fiscal quarters prior to the month of the filing of the petition (i.e., December 2000).

Scope of Investigation

The scope of these investigations covers low enriched uranium (LEU). LEU is enriched uranium hexafluoride (UF6) with a U235 product assay of less than 20 percent that has not been converted into another chemical form, such as UO2, or fabricated into nuclear fuel assemblies, regardless of the means by which the LEU is produced (including LEU produced through the down-blending of highly enriched uranium).

Certain merchandise is outside the scope of these investigations. Specifically, these investigations do not cover enriched uranium hexafluoride with a U²³⁵ assay of 20 percent or greater, also known as highly enriched uranium. In addition, fabricated LEU is not covered by the scope of these investigations. For purposes of these investigations, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of these investigations.

The merchandise subject to these investigations is classified in the Harmonized Tariff Schedule of the United States (HTSUS) at subheading 2844.20.0020. Subject merchandise may also enter under 2844.20.0030, 2844.20.0050, and 2844.40.00. Although the HTSUS subheadings are provided for convenience and customs purposes, the written description of the merchandise is dispositive.

The Ad Hoc Group contends that certain sales subject to these investigations are in actuality transactions for separative work units (SWU) of enrichment, and therefore constitute the provision of services, not the production or sale of goods subject to the antidumping law. In particular, the Ad Hoc Group focuses upon the relevant sale to be used in determining whether LEU is sold at less than fair value. The Ad Hoc Group contends that sales of SWU or enrichment do not constitute sales of subject merchandise. They argue further that because “toll-produced LEU” is consumed by the parties who contract for the tolling, such LEU is never sold in the United States. The Ad Hoc Group cites the Department's tolling regulation and practice to support its conclusion that such sales should be excluded from the scope of these investigations.

This is an exceptionally complicated issue. Based upon our analysis of the record and the arguments of the parties, we preliminarily determine that all LEU entering the United States from Germany, the Netherlands, the United Kingdom, and France is subject to these investigations regardless of the way in which the sales for such merchandise are structured.³ This preliminary determination is based on several factors. First, no party disputes that LEU entering the United States is a good. As the product yield of a manufacturing operation, LEU is a tangible product. Moreover, under the U.S. Customs regulations, any item that is within a tariff category of the Harmonized Tariff System constitutes merchandise for customs purposes. See 19 CFR 141.4 (2000). In this case, LEU is normally classified under HTSUS 2844.20.0020, but also satisfies three other HTSUS classifications described as enriched uranium compounds, enriched uranium, and radioactive elements, isotopes, and compounds.

³ This statement is limited to imports of LEU that were enriched in the respective countries.

Second, it is well established that the enrichment process is a major manufacturing operation that is required to produce LEU. No party disputes that the enrichment operation constitutes substantial transformation of the uranium feedstock, nor does any party dispute that the country of origin for LEU is based upon where that substantial transformation takes place. Thus, the LEU exported from Germany, the Netherlands, the United Kingdom, and France are products of those respective countries, and are therefore subject to these investigations.

Third, in these investigations there are significant volumes of LEU sold pursuant to contracts that expressly provide separate prices for SWU and feedstock, and no party disputes that such sales constitute sales of subject merchandise.⁴ Rather, it is only for those transactions in which utility companies arguably obtain LEU through separate transactions of SWU and feedstock from separate entities that the Ad Hoc Group contends that such LEU entering the United States cannot be subject to the antidumping law. The Department has considered whether it would be appropriate to include in these investigations only the former type of transactions and exclude the latter. We believe, however, that, based on the petitioners' arguments, discussed below, there is little substantive commercial difference between these types of transactions, and, therefore, we have preliminarily included both. Simply because an unaffiliated customer purchases subject merchandise arguably in the form of two transactions, instead of a single, conventional type of transaction, does not mean that the merchandise entering the United States is not subject to the antidumping law. The purpose of the antidumping law is to provide a remedy to U.S. industries injured by unfairly priced goods. Subject merchandise purchased in the form of two transactions, instead of one, does not eliminate the possibility of unfair pricing, nor does it alleviate the need for the remedy established under the antidumping law.

⁴ This is also true of a contract for enriched uranium product (EUP) that provides one price for both components.

Fourth, contrary to the Ad Hoc Group's claim, the tolling regulation does not provide a basis to exclude merchandise from the scope of an investigation. The purpose of the tolling regulation is to identify the seller of the subject merchandise for purposes of establishing export price, constructed export price, and normal value. Under § 351.401(h), therefore, the Department focuses upon which party controls the relevant sale of the subject merchandise and foreign like product. See, e.g., Notice of Final Determination of Sales at Less Than Fair Value: Stainless Steel Plate in Coils from Taiwan, 64 FR 15493, 15498 (Mar. 31, 1999)). Thus, under the tolling regulation the issue is not whether the LEU in question is subject to the antidumping law, but rather who is the seller of the subject merchandise for determining U.S. price and normal value or, more specifically, what is the appropriate way in which to value subject merchandise and foreign like product. To the extent that sales of subject merchandise are structured as two transactions, the Department would combine such transactions to obtain the relevant price of subject merchandise, or normal value, as appropriate. On the other hand, to the extent that a company located in the United States sells the subject merchandise that is toll-processed in a country subject to investigation, the company in the United States would be the seller of subject merchandise. Even if in these cases we considered the utilities to be the producers of the subject merchandise within the meaning of the tolling regulation, this would not mean the antidumping law is not applicable. Regardless of the appropriate seller identified or how the sales are structured, the merchandise entering the United States is subject to the antidumping law.

The petitioners maintain that enrichers are the sellers of LEU in both types of contracts—either as an exchange of SWU and uranium feedstock for cash, or as an exchange of SWU for cash and a swap of uranium feedstock. The petitioners contend that the two transactions are essentially identical. First, regardless of whether the utility company pays in cash or in kind for the natural uranium content, the petitioners point out that the LEU is delivered under essentially the same contract terms, including warranties and guarantees pertaining to the complete LEU product. Second, enrichers do not use the uranium feedstock provided by the utility companies. Instead, the petitioners note that the natural uranium is typically delivered shortly before, or even after, delivery of the LEU, making the delivery of such uranium a payment in kind for the natural uranium component of the LEU. Third, the petitioners contend that the utility company does not have control over the process used to produce LEU that the utility company receives. Rather, the petitioners point out that the enrichers control the manufacture of LEU, as demonstrated by the fact that the product assay under the contract (transactional assay) differs from the product assay produced and delivered by the enricher (operational assay). According to the petitioners, the enricher makes the decision of the particular product assay based upon its own operational requirements and input costs. Taken together, these facts indicate that enrichers are in effect selling LEU under both types of contractual arrangements.

We have preliminarily treated the sales at issue as sales of subject merchandise for the reasons stated above and based upon the petitioners' arguments. In all transactions concerning LEU, regardless of how the sales are structured, the utility companies purchase LEU for use in the production and sale of electricity to consumers. Accordingly, the Department has established the value of the subject merchandise and foreign like product for purposes of determining U.S. price and normal value based on these transactions. We will further examine this issue for the final determination, and we invite comments on this issue. For purposes of these preliminary determinations, we have assigned a value to the natural uranium feedstock where no price was provided. We also invite comments from interested parties as to the valuation of the uranium feedstock for such transactions.

Fair Value Comparisons

To determine whether sales of low enriched uranium from Germany, the Netherlands, and the United Kingdom were made in the United States at less than fair value, we compared the export price (EP) to the constructed value (CV), as described in the Export Price and Constructed Value sections of this notice. In accordance with section 777A(d)(1)(A)(i) of the Act, we calculated weighted-average EPs and compared them to CV.

We note that during the POI, the respondent sold LEU pursuant to different types of contracts. For some contracts, the respondent undertook to manufacture and deliver LEU for a cash payment covering both the value of the enrichment component and the value of the natural uranium feedstock deemed to be contained in the LEU (referred to as EUP contracts). For other contracts, the respondent undertook to manufacture and deliver LEU for a cash payment covering only the value of the enrichment component; for the natural uranium feedstock component, the respondent received an amount of natural uranium equivalent ⁵ to the amount deemed to be used to produce the LEU shipped (referred to as SWU contracts). For both types of transactions, the product manufactured and delivered by the respondent was LEU. For purposes of our antidumping analysis, we have translated prices and costs involved in SWU contracts to an LEU basis. To value the natural uranium component for SWU contracts we have made our calculations based upon the presumption that the value of this natural uranium was equal to the value of natural uranium paid by Urenco's customers pursuant to EUP contracts.

⁵ The actual quantity of feedstock used by enrichers to produce the LEU they ship is normally different from the quantity of feedstock they receive from their utility customers. This difference, between the operational and transactional tails assays, is adjusted for in the constructed value calculation.

Export Price

Germany, the Netherlands, and the United Kingdom

For the price to the United States, we used EP in accordance with section 772(a) of the Act because the merchandise was sold by the producer or exporter outside the United States to the first unaffiliated purchaser in the United States prior to importation. In addition, constructed export price was not otherwise warranted based on the facts on the record. Consistent with this definition, we found that Urenco made EP sales during the POI.

We based the date of sale on the date of the contract with the U.S. customer; i.e., the date that the terms of sale were established. Section 351.401(i) of the Department's regulations provide that the date of sale will normally be the date of invoice, unless the material terms of sale are set on some other date. In the instant cases, we preliminarily determine the material terms of sale are set by contract.

We note that some of the sales during the POI involved pre-existing contracts which were amended during the POI. The petitioners argue that, while the Department typically includes in its dumping analysis the entire sales quantity covered by an amended contract, the long-term nature of uranium contracts warrants including in the analysis only the additional quantities associated with the amendments.⁶ Further, the petitioners argue that the Department should isolate the prices for the additional quantities called for by the amendments, segregating them from prices specified by the pre-existing contracts. For purposes of these preliminary determinations, we have considered the amended contract to constitute an entirely new sale, and have included in the dumping analysis all deliveries to date pursuant to the amended contract. We will examine this issue further at verification, and invite comment from interested parties for the final determinations.

⁶ Due to the fact that many long-term contracts covering an existing quantity are renegotiated when newer quantities are purchased, price reductions are taken on existing contracts that are related to new sales in the POI.

Because many of these contracts are long-term, spanning over five years, in most instances there have been only partial deliveries to date pursuant to contracts entered into during the POI. Based on the nature of the contracts, the specifications for the desired enrichment level of the LEU (i.e. “product assay” of the LEU) and, therefore, the per-kilogram price for the LEU, are not known, until the customer requests delivery.⁷ Given the speculative nature of estimating the product assays and prices associated with future deliveries, coupled with the fact that we are unable to determine the country of origin until delivery actually occurs, we have preliminarily decided to base the dumping analysis on completed deliveries only.

⁷ Prices, exchange rates, selling expenses, and costs of production for future deliveries pursuant to POI contracts would also have to be estimated.

We made deductions from the starting price for movement expenses in accordance with section 772(c)(2)(A) of the Act. These include foreign inland freight from the plant to the port of export, international freight, international air freight/insurance, charges for shipment of samples, U.S. brokerage and handling fees, and port charges. We also deducted any discounts from the starting price.

Normal Value

A. Selection of Comparison Markets

Section 773(a)(1) of the Act directs that normal value (NV) be based on the price at which the foreign like product is sold in the home market (or third country market), provided that the merchandise is sold in sufficient quantities (or value, if quantity is inappropriate) and that there is no particular market situation that prevents a proper comparison with the EP. The statute contemplates that quantities (or value) will normally be considered insufficient if they are less than five percent of the aggregate quantity (or value) of sales of the subject merchandise to the United States.

Germany

Pursuant to section 773(a)(1) of the Act, because Urenco Deutschland GmbH's (UD) aggregate volume of home market sales of the foreign like product was greater than five percent of its aggregate volume of U.S. sales of the subject merchandise, we determined that the home market was viable.

The Netherlands

Urenco Nederland B.V. (UN) had no sales in its home market. Japan was its largest third-country market, and, following our normal practice, it was selected as the comparison market.

The United Kingdom

Urenco (Capenhurst) Ltd. (UCL) had no sales in its home market. Japan was its largest third-country market and, following our normal practice, it was selected as the comparison market.

B. Constructed Value

For Germany and the Netherlands, Urenco reported no actual shipments in the respective comparison markets. Because, as discussed above, we limited our analysis to actual shipments, we therefore used constructed value as the basis for normal value. For the United Kingdom, although UCL had actual shipments to Japan, we have preliminarily determined not to rely on these sales for determining normal value. Due to the differences in product and tails assays and the unique manner in which LEU is sold, a difference in merchandise adjustment (diffmer) will not adequately reflect price differentials. Accordingly, we have also relied on constructed value as the basis for normal value for the United Kingdom. We will examine this issue further at verification and invite comment from interested parties for the final determination. See “Calculation Memorandum”.

C. Calculation of Normal Value Based on Constructed Value

Section 773(a)(4) of the Act provides that where NV cannot be based on comparison market sales, NV may be based on CV. Section 773(e) of the Act provides that CV shall be based on the sum of the cost of materials and fabrication for the merchandise, plus amounts for selling, general, and administrative expenses (SG&A), profit, and U.S. packing costs. We calculated a weighted-averaged cost of production (COP) for each control number of low enriched uranium, based on the sum of the cost of materials, fabrication and general expenses, and packing costs.

We relied on the data submitted by respondents in their supplementary cost questionnaire responses, except, as noted below, in specific instances where the submitted costs were not appropriately quantified or valued.

Common

We adjusted the reported general and administrative expenses (G&A) rate to include certain non-operating income and expense amounts which appear to relate to the general operations of each of the companies.

Urenco (Capenhurst) Limited

1. We increased UCL's depreciation expense to account for the effect of acquiring fixed assets from affiliates at less than full cost.

2. We adjusted UCL's reported cost of manufacturing by including the portion of the centrifuge losses allocated to the POI.

Urenco Nederland B.V.

1. We increased UNL's reported costs by including the unreconciled difference between the audited financial statement cost of manufacturing and the total costs reported.

2. We increased UNL's reported cost of manufacturing to account for foreign exchange losses that were excluded from the reported costs.

Urenco Deutschland GmbH

We increased UD's reported cost to include depreciation expense calculated in accordance with German GAAP rather then that in accordance with UK GAAP.

In accordance with section 773(e)(2)(B)(iii) of the Act, we calculated Urenco's SG&A and profit using the individual company's audited financial statements. For further details, see calculation Memorandum from Ernest Gziryan to Neal Halper, dated July 5, 2001.

Level of Trade

In accordance with section 773(a)(1)(B) of the Act, to the extent practicable, we determine CV based on sales in the comparison market at the same level of trade (LOT) as the EP transaction. The CV LOT is that of the sales from which we derive SG&A expenses and profit. For EP, the U.S. LOT is also the level of the starting-price sale, which is usually from exporter to importer.

To determine whether CV sales are at a different LOT than EP, we examine stages in the marketing process and selling functions along the chain of distribution between the producer and the unaffiliated customer. If the comparison-market sales are at a different LOT, and the difference affects price comparability, as manifested in a pattern of consistent price differences between the sales on which CV is based and comparison-market sales at the LOT of the export transaction, we make an LOT adjustment under section 773(a)(7)(A) of the Act.

In the U.S. market, we found selling expenses associated with strategic planning and marketing, customer sales contact, production planning and evaluation, and contract administration. Urenco reported one channel of distribution in the U.S. market (i.e., from Urenco Ltd. to U.S. utilities). Therefore, we found all U.S. sales to be made at single level of trade.

For the comparison markets Urenco reported one channel of distribution (i.e., from Urenco Ltd. to the utility companies). Moreover all the companies in the Urenco group sell through Urenco Inc. and have similar marketing processes and selling activities in these comparison markets (i.e., strategic planning, marketing, and customer sales contact). Therefore, we found a single level of trade. Moreover, since the Urenco group sells to the United States and in the comparison markets through Urenco Ltd., where the marketing activities and selling functions are similar, we found the level of trade in the comparison markets comparable to that of the U.S. market.

Currency Conversions

We made currency conversions into U.S. dollars in accordance with section 773A of the Act based on exchange rates in effect on the dates of the U.S. sales, as obtained from the Federal Reserve Bank (the Department's preferred source for exchange rates).

Verification

In accordance with section 782(i) of the Act, we intend to verify all information relied upon in making our final determinations.

Suspension of Liquidation

In accordance with section 733(d) of the Act, we are directing the Customs Service to suspend liquidation of all entries of low enriched uranium, with the exception of those exported from Germany and the Netherlands, that are entered, or withdrawn from warehouse, for consumption on or after the date of publication of this notice in the Federal Register.⁸ We are also instructing the Customs Service to require a cash deposit or the posting of a bond equal to the weighted-average amount by which the NV exceeds the EP, as indicated in the chart below. These instructions suspending liquidation will remain in effect until further notice.

⁸ On July 3, 2001, the Department received comments from the respondent requesting that, in the event of an affirmative preliminary determination, the application of any cash deposit, bond or other security be limited to transactions involving the sale of enriched uranium, and exclude imports pursuant to so-called SWU contracts. We will consider these comments for the final determination.

The weighted-average dumping margins are as follows:

Exporter/manufacturer | Weighted-average margin percentage
Urenco Deutschland GmbH | ¹ 0.46
Urenco Netherlands B.V | ¹ 0.55
Urenco (Captenhurst) Ltd. | 3.35
¹ (de minimis).

Disclosure

The Department will disclose calculations performed within five days of the date of publication of this notice to the parties to the proceedings in these investigations in accordance with 19 CFR 351.224(b).

ITC Notification

In accordance with section 733(f) of the Act, we have notified the ITC of our preliminary determinations. If our final antidumping determinations are affirmative, the ITC will determine whether the imports covered by the determinations are materially injuring, or threaten material injury to, the U.S. industry. The deadline for the ITC determinations would be the later of 120 days after the date of these preliminary determinations or 45 days after the date of our final determinations.

Public Comment

Case briefs for these investigations must be submitted no later than one week after the issuance of the verification reports. Rebuttal briefs must be filed within five days after the deadline for submission of case briefs. A list of authorities used, a table of contents, and an executive summary of issues should accompany any briefs submitted to the Department. Executive summaries should be limited to five pages total, including footnotes.

Section 774 of the Act provides that the Department will hold a hearing to afford interested parties an opportunity to comment on arguments raised in case or rebuttal briefs, provided that such a hearing is requested by any interested party. If a request for a hearing is made in an investigation, the hearing will tentatively be held two days after the deadline for submission of the rebuttal briefs, at the U.S. Department of Commerce, 14th Street and Constitution Avenue, NW, Washington, DC 20230. In the event that the Department receives requests for hearings from parties to more than one low-enriched uranium case, the Department may schedule a single hearing to encompass all those cases. Parties should confirm by telephone the time, date, and place of the hearing 48 hours before the scheduled time.

Interested parties who wish to request a hearing, or to participate if one is requested, must submit a written request within 30 days of the publication of this notice. Requests should specify the number of participants and provide a list of the issues to be discussed. Oral presentations will be limited to issues raised in the briefs.

We will make our final determinations no later than 135 days after the date of publication of this notice in the Federal Register.

These determinations are issued and published pursuant to sections 733(f) and 777(i)(1) of the Act.

Dated: July 5, 2001.
Faryar Shirzad,
Assistant Secretary for Import Administration.

[FR Doc. 01-17624 Filed 7-12-01; 8:45 am]

BILLING CODE 3510-DS-P